DEPARTMENT OF COMMERCE

National Oceanic and Atmospheric Administration

[I.D. 121300A]

National Plan of Action for the Conservation and Management of Sharks

AGENCY: National Marine Fisheries Service (NMFS), National Oceanic and Atmospheric Administration (NOAA), Commerce.

ACTION: Notice of availability of final plan; response to public comments.

SUMMARY: NMFS announces the availability of the final National Plan of Action (NPOA) developed pursuant to the endorsement of the International Plan of Action (IPOA) for the Conservation and Management of Sharks by the United Nations’ Food and Agriculture Organization Committee on Fisheries (COFI) Ministerial Meeting in February 1999. NMFS prepared this final plan based on consultation with scientific and technical experts, and certain Federal and state agencies, and comments from members of the public. Response to public comments on the draft NPOA is provided.

ADDRESSES: Written requests for copies of the final NPOA should be sent to Margo Schulze-Haugen, Highly Migratory Species Management Division (F/SF1), National Marine Fisheries Service (NMFS), 1315 East-West Highway, Silver Spring, MD 20910, or may be sent via facsimile (fax) to 301-713-1917.

FOR FURTHER INFORMATION CONTACT: Margo Schulze-Haugen or Karyl Brewster-Geisz, (301) 713-2347; fax (301) 713-1917.

SUPPLEMENTARY INFORMATION: Noting the increased concern about the expanding catches of sharks and their potential negative impacts on shark populations, the IPOA calls on member nations to voluntarily develop national plans to ensure the conservation and management of sharks for their long-term sustainable use by applying the precautionary approach. Member nations are encouraged to develop and implement an NPOA if their vessels conduct directed fisheries for sharks or if their vessels regularly catch sharks incidentally in fisheries for other species. Specifically, the IPOA calls on member nations to ensure that shark catches from directed and incidental fisheries are sustainable; assess threats to shark populations; protect critical habitats; provide special attention to vulnerable or threatened shark stocks; minimize unutilized incidental catches of sharks; encourage full use of dead sharks; improve species-specific catch and landings data and monitoring of shark catches; and consult with stakeholders in research, management, and educational initiatives within and between member nations. The United States committed to developing this national plan, and reporting on its implementation to COFI, no later than the 25th COFI session in February 2001.

A proposed schedule, outline, background, and rationale were published in the Federal Register on September 30, 1999 (64 FR 52772). A revised schedule was published in the Federal Register on March 27, 2000 (65 FR 16186). A notice of availability of the draft NPOA was published in the Federal Register on August 4, 2000 (65 FR 47968); the comment period ended September 30, 2000.

Comments and Responses

Comment 1: The NPOA is not a plan of action at all; it fails to commit to a strategy for action with clearly articulated short and long-term goals, priorities, time frames, responsible management entities, and funding.

Response: The NPOA was developed by NMFS to fulfill the national responsibility of the United States. NMFS’ goal in the NPOA is to establish a process where the various entities in the United States work cooperatively to fulfill the objectives of the IPOA. The authority under which NMFS operates is the Magnuson-Stevens Fishery Conservation and Management Act (Magnuson-Stevens Act), which calls for the conservation and management of living marine resources, including sharks, and establishes requirements and deadlines for rebuilding plans for overfished species. The Magnuson-Stevens Act does not give NMFS the authority to “require” Regional Fishery Management Councils (Councils) to take a specific action for those species of sharks that are not under direct agency management. While it is true that the agency may prepare a new fishery management plan (FMP) or amend an existing FMP if the appropriate Council fails to develop, after a reasonable period of time, necessary management measures, it is preferable that the appropriate Council act first.

Additionally, NMFS has no authority to review or direct Interstate Fisheries Commissions (Commissions) or coastal States to take action(s) regarding shark conservation and management. Thus, NMFS will work cooperatively with Councils, Commissions, and States and encourage them to take action to ensure the conservation and management of sharks and their long-term sustainable use.

Nevertheless, the final NPOA for sharks does provide policy guidance to Councils, Commissions, and States to conduct an initial assessment within 2 years of completion of this NPOA (if such assessment is not already done) to determine if the fisheries under their jurisdiction are sustainable so that NMFS may incorporate that information into the biennial report to COFI in 2003. If shark conservation and management measures are found to be necessary, the final NPOA provides further policy guidance to responsible management entities to develop fishery-specific measures within 2 years, with reporting to NMFS by September 2004 so that that information may be incorporated into the biennial report to COFI in 2005. For any fisheries that are under the authority of the Magnuson-Stevens Act and that are identified as overfished, the development of rebuilding programs must be consistent with section 304(f) of the Magnuson-Stevens Act. NMFS will work cooperatively with Councils, Commissions, and states in these determinations and development of management measures.

NMFS believes that the final NPOA demonstrates strong U.S. leadership on this important international shark conservation issue. The United States has already several FMPs that regulate directed and incidental catches of sharks as well as bycatch of sharks, and other FMPs under consideration or development. Additionally, the United States is likely to be one of the first COFI members to complete an NPOA for sharks, will urge other members to develop and implement NPOAs, as appropriate, and will pursue shark conservation and management in other international fisheries management fora.

NMFS acknowledges that assessing shark conservation and management needs and effectiveness is costly, and that the final NPOA includes ambitious objectives and goals. Additional funding needs for implementing the final NPOA need to be addressed by the individual management entities. In the past, NMFS did not have the resources to monitor all sharks caught in all U.S. fisheries and effective implementation of the final NPOA may require additional funding. NMFS will use the final NPOA as guidance in its strategic planning and budget processes.

Comment 2: The NPOA fails to include a bycatch reduction strategy with goals and timeframes.

Response: In addition to the NPOA’s policy guidance on actions and time frames outlined above, the United States participates in international fishery agreements to reduce or minimize bycatch, including the IPOA and the United Nations Food and Agriculture Organization Code of Conduct for Responsible Fisheries.

NMFS believes that directed, incidental or bycatch shark fisheries constitute unique situations that require development of fishery-specific shark conservation and management measures. It is not necessary to state explicit conservation and management standards for individual fisheries or for the nation as a whole as these are identified in the IPOA, NPOA, and Magnuson-Stevens Act.

Comment 3: The NPOA should call for adoption of the precautionary approach and development of precautionary FMPs for all elasmobranch fisheries, regardless of overfishing.

Response: NMFS agrees that the precautionary approach should be adopted in the conservation and management measures and development of FMPs. NMFS believes that the National Standards Guidelines for the Magnuson-Stevens Act and this NPOA for sharks include this policy guidance. However, NMFS believes that each fishery represents unique situations that should be addressed on a fishery-specific basis and that development of precautionary FMPs should be prepared by the responsible management entity.

Comment 4: NMFS should identify overarching outreach priorities and develop an identification guide for the Atlantic and Pacific regions.

Response: NMFS agrees that public outreach on the identification of sharks, as well as the need for shark conservation and management, are high priorities. Towards that end, NMFS is developing an identification guide for sharks of the Atlantic Ocean, Gulf of Mexico, and Caribbean Sea, with anticipated completion in early 2001.

Comment 5: All management entities should be required to produce reports on all shark catches in all fisheries every 2 years.

Response: NMFS agrees that regular assessment and reporting of shark catches in all fisheries is appropriate and would enhance biennial reporting to COFI on implementation of the NPOA. Accordingly, the final NPOA includes policy guidance on time frames for reporting, and NMFS will work cooperatively with Councils, Commissions, and States on generating the relevant reports.

Comment 6: The NPOA should include a comprehensive overview of health and status of all elasmobranch populations, research and data needs, and current management.

Response: NMFS believes that the final NPOA includes a brief, yet complete, review of Atlantic and Pacific shark stock status, fishery descriptions, research and management needs, and current management. NMFS refers interested constituents to the NMFS annual Report to Congress on Status of Fisheries of the United States (see http://www.nmfs.noaa.gov/sfa/reports.html) and the relevant FMPs for more comprehensive information on specific species and/or fisheries.

Comment 7: The NPOA should include a specific section on threatened species, including Endangered Species Act candidates and American Fisheries Society stocks at risk.

Response: NMFS agrees and has modified the final NPOA.

Comment 8: The NPOA should elaborate more on progress in international and regional organizations such as the Asian Pacific Economic Cooperation Forum, the Northwest Atlantic Fisheries Organization, and the Convention on the International Trade in Endangered Species of Flora and Fauna.

Response: NMFS agrees and has modified the format of the final NPOA.

Changes From Draft NPOA

NMFS made a number of changes in the final NPOA pursuant to public comments that were submitted on the draft NPOA. The final NPOA provides policy guidance and time frames for NMFS, Council, Commission, and state action to conduct initial assessments of shark catches and fisheries within two years of completion of the NPOA and to develop fishery-specific management measures, as appropriate, within 4 years. The sections describing international science and management initiatives and guidance on adopting the precautionary approach and protecting vulnerable species are expanded.

Electronic Access

The final version of the NPOA is now available on the NMFS website (http://www.nmfs.noaa.gov). Hard copies of the document are available upon request (see ADDRESSES).

Authority: 16 U.S.C. 971 et seq. and 1801 et seq.

Dated: February 8, 2001.
Bruce C. Morehead,
Acting Director, Office of Sustainable Fisheries, National Marine Fisheries Service.

[FR Doc. 01-3867 Filed 2-14-01; 8:45 am]

BILLING CODE 3510-22-S